DEPARTMENT OF COMMERCE

National Oceanic and Atmospheric Administration

RIN 0648-XS81

Marine Mammals; File Nos. 14682, 10018, 13846, 14451, 14585, 14599, 14122, 14296, 14353

AGENCY: National Marine Fisheries Service (NMFS), National Oceanic and Atmospheric Administration (NOAA), Commerce.

ACTION: Notice; receipt of applications.

SUMMARY: Notice is hereby given that NMFS has received nine applications for permits or permit amendments to conduct research on marine mammals. See SUPPLEMENTARY INFORMATION for additional information regarding applicants and specific information on species affected.

DATES: Written, telefaxed, or e-mail comments must be received on or before December 14, 2009.

ADDRESSES: The applications and related documents are available for review by selecting “Records Open for Public Comment” from the Features box on the Applications and Permits for Protected Species (APPS) home page, https://apps.nmfs.noaa.gov, and then selecting the associated File No. from the list of available applications.

These documents are also available upon written request or by appointment in the offices listed in SUPPLEMENTARY INFORMATION.

Written comments or requests for a public hearing on these applications should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301)713-0376, provided the facsimile is confirmed by hard copy submitted by mail and postmarked no later than the closing date of the comment period.

Comments may also be submitted by e-mail. The mailbox address for providing e-mail comments is NMFS.Pr1Comments@noaa.gov. Include in the subject line of the e-mail comment the associated File Number.

FOR FURTHER INFORMATION CONTACT: The following Analysts at (301)713-2289:

For File No. 14682: Kristy Beard or Carrie Hubard; File No. 10018: Carrie Hubard or Kristy Beard; File No. 13846: Amy Hapeman or Kristy Beard; File No. 14451: Kate Swails or Kristy Beard; File No. 14585: Amy Hapeman or Kristy Beard; File No. 14599: Amy Sloan or Kristy Beard; File No. 14122: Amy Sloan or Kristy Beard; File No. 14296: Kristy Beard or Jennifer Skidmore; File No. 14353: Carrie Hubard or Kristy Beard.

SUPPLEMENTARY INFORMATION: The subject permits and permit amendment are requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), and the regulations governing the taking, importing, and exporting of endangered and threatened species (50 CFR 222-226).

Each of the nine applications is summarized below. For specific take numbers of each species, please refer to the associated application.

Whitlow Au, Ph.D. [File No. 14682], University of Hawaii, Hawaii Institute of Marine Biology, Marine Mammal Research Program, PO Box 1106, Kailua, HI 96734, requests a five-year permit to investigate the population dynamics and behavior of cetaceans around Hawaii and the Pacific, to determine aspects of the behavior and use of the acoustic environment by large whales, and to determine the effects of noise on behavior of cetaceans around Hawaii. Researchers would conduct behavioral observations, photo-identification, genetic sampling, suction-cup tagging, acoustic recording, and acoustic playbacks from vessels. Target species would be: Blainville's beaked whale (Mesoplodon densirostris), Cuvier's beaked whale (Ziphius cavirostris), killer whale (Orcinus orca), humpback whale (Megaptera novaeangliae), dwarf sperm whale (Kogia sima), pygmy sperm whale (K. breviceps), short-finned pilot whale (Globicephala macrorhynchus), false killer whale (Pseudorca crassidens), pygmy killer whale (Feresa attenuata), melon-headed whale (Peponocephala electra), long-beaked common dolphin (Delphinus capensis), short-beaked common dolphin (D. delphis), striped dolphin (Stenella coeruleoalba), spinner dolphin (S. longirostris), pantropical spotted dolphin (S. attenuata), bottlenose dolphin (Turisiops truncatus), Risso's dolphin (Grampus griseus), Pacific white-sided dolphin (Lagenorhynchus obliquidens), and rough-toothed dolphin (Steno bredanensis).

Rachel Cartwright, Ph.D. [File No. 10018], Keiki Kohola Project, 5277 West Wooley Road, Oxnard, CA 93035, requests an amendment to Permit No. 10018, issued on June 18, 2008 (73 FR 36042). Dr. Cartwright is currently authorized to conduct humpback whale research, consisting of photo-identification, focal follows, underwater observations, and collection of sloughed skin, in Hawaiian waters. The permit holder now requests authorization to conduct similar research in Alaskan waters from May through September each year. The purpose of the amendment is to broaden the current study on humpback whale female-calf behavior and habitat choice. Field work would be based out of Kake, Alaska and focused primarily in Chatham Straits, Frederick Sound, Sumner Strait, Lynn Canal and Icy Strait. Humpback whales of all ages, including calves, would be harassed during surveys and the associated photo-identification, passive acoustics, and behavioral observations. Four other species of cetaceans (killer whales, Pacific white-sided dolphins, and harbor (Phocoena phocoena) and Dall's porpoises (Phocoenoides dalli)) may be incidentally harassed during the research. Any killer whales observed would be photographed for identification purposes. The amended permit would expire on June 30, 2013.

Jim Darling, Ph.D. [File No. 13846], Whale Trust, P.O. Box 384, Tofino, BC V0R2Z0, Canada, requests a five-year permit to study the social organization, behavior and communication of humpback whales in Hawaii (primarily off west Maui), and the population biology, ecology, and behavior of humpback and Eastern gray (Eschrichtius robustus) whales along the coastlines of Washington and Alaska. Researchers would conduct photo-identification, passive acoustic recording, behavioral observation (by vessel, underwater and aerial), video-recording, collection of sloughed skin, photogrammetry, biopsy sampling, playback experiments, and suction-cup and implant tagging of target whales. Whales of all ages would be harassed during surveys with the exceptions that only juvenile and adult humpbacks would be biopsy sampled and only adult humpbacks would be tagged. In Hawaii, spinner dolphins, pantropical spotted dolphins, bottlenose dolphins and false killer whales may be incidentally harassed during research. Killer whales and Steller sea lions (Eumetopias jubatus) may be incidentally harassed in Washington or Alaskan waters during research.

Joseph Mobley, Jr. [File No. 14451], University of Hawaii at Manoa, 2528 McCarthy Mall, Honolulu, HI 96816, requests a five-year permit to investigate short and long-term changes in population size, habitat use, and behavior of cetaceans off the coast of eastern and western United States, Hawaii, Alaska, Guam, and the Mariana Islands. Researchers would conduct aerial and vessel surveys, photo-identification, videography, and behavioral observations. Research would target numerous cetacean species including endangered blue whales (Balaenoptera musculus), fin whales (B. physalus), humpback whales, sei whales (B. borealis) and sperm whales (Physeter macrocephalus).

Adam Pack, Ph.D. [File No. 14585], University of Hawaii at Hilo, 200 West Kawili St., Hilo, HI, 96720, requests a five-year permit to continue long-term population studies of humpback whales and other cetacean species in the Eastern, Western and Central North Pacific Ocean, primarily Hawaii and Alaska. These studies include: (1) photo-identification to determine individual life histories, social role, migration, habitat use, distribution, and reproductive states; (2) underwater videogrammetry to determine the body sizes of animals in different social roles; (3) underwater videography to document behaviors and social interactions, and to aid in sex determination; (4) passive acoustic recordings of song to trace the evolution of song in Hawaii and to examine acoustic characteristics of song in relation to singer size and life history; (5) passive acoustic recordings of non-song vocalizations to determine acoustic properties, contexts, and functions; (6) Crittercam studies of humpbacks in different group types to help in the understanding of the humpback mating system; and (7) skin and blubber biopsy sampling for sex determination, and for health assessment. In addition to humpback whales, the following species may be opportunistically studied or incidentally harassed during surveys: bottlenose dolphin, spinner dolphin, spotted dolphin, Risso's dolphin, false killer whale, melon-headed whale, pygmy killer whale, rough toothed dolphin, pilot whale, striped dolphin, pygmy and dwarf sperm whales, killer whale, sperm whale, North Pacific right whale (Eubalaena japonica), fin whale, blue whale, Cuvier's beaked whale, minke whale (B. acutorostrata), sei whale, Bryde's whale (B. edeni), Fraser's dolphin (Lagenodelphis hosei) and Blainville's beaked whale.

Fred A. Sharpe, Ph.D. [File No. 14599], Alaska Whale Foundation, 4739 University Way NE #1239, Seattle WA 98105, requests a five-year permit to conduct research on the social complexity of Alaskan humpback whale bubble feeding to gain insight into the manner in which environmental and social factors shape this behavior. Research would be conducted annually and include approaches to individuals for: (1) photo-identification; (2) acoustic recordings; (3) sonar profiling; (4) pole cam observations; (5) broadcasting sounds to individuals; (6) attachment of suction cup tags; (7) aerial observations; (8) SCUBA observations; and (9) opportunistic collection of fecal material. Most activities would be conducted independently; however, photo-identification would occur before or after most other activities, and some playbacks would be broadcast concurrently to tagged individuals to document received levels and subsurface movements. No impacts to non-target species are anticipated. The applicant is also requesting opportunistic approaches to killer whales for photo-identification. The proposed activities are part of an ongoing study, and ouldl be conducted in the waters of Southeast Alaska, primarily from mid-May to mid-October.

Jan Straley [File No. 14122], University of Alaska Southeast Sitka Campus, 1332 Seward Ave., Sitka, AK 99835, requests a five-year permit to study the biology of large whales in Alaskan waters to: (1) continue and expand a study of humpback whales including takes by close approach/disturbance, biological sampling, suction cup and satellite tagging and acoustic playbacks; (2) study sperm whale movements, foraging behavior and depredation on longline fishing gear to reduce interactions involving takes by close approach/disturbance, biological sampling, suction cup and satellite tagging, fishing modifications and acoustic playbacks; (3) study killer whale seasonal movements, foraging, migration patterns and depredation, including takes by close approach/disturbance, biological sampling, suction cup and satellite tagging and acoustic playbacks; (4) enhance the body of knowledge, stock structure and current status through research activities involving close approach/disturbance, biological sampling and tagging of gray, minke, fin, sei, blue, and North Pacific right whales; and (5) study killer whale predation events, photograph, observe, collect tissue samples, incidentally harass and collect dead parts from prey including: humpback, gray, minke, sei and fin whales, harbor porpoise, Dall's porpoise, Pacific white-sided dolphin, Northern fur seal (Callorhinus ursinus), Steller sea lion, and harbor seal (Phoca vitulina).

Briana Witteveen, Ph.D. [File No. 14296], University of Alaska Fairbanks, School of Fisheries and Ocean Sciences, 118 Trident Way, Kodiak, AK 99615, requests a five-year permit to conduct scientific research on cetaceans year-round in the Gulf of Alaska, with emphasis on examining prey use and foraging patterns of gray, fin, humpback, and killer whales and exploring the responses of humpback whales to acoustic deterrent devices. Takes would occur by close approach to collect photographs, recordings of vocalizations, biopsy samples, prey parts, sloughed skin, to attach suction cup tags, and to document response to acoustic deterrents. Sei, blue, minke, sperm, and right whales would be taken by close approach to collect photographs and biopsy samples. Other species of marine mammals might be incidentally harassed during research activities.

Ann Zoidis [File No. 14353], Cetos Research Organization, 33 Echo Ave., Suite 5, Oakland, CA 94611, requests a five-year permit to conduct scientific research on humpback and minke whales in Hawaiian waters. Research would occur January through March. Humpback whale research would be focused in the Au'au Channel near Maui. The objectives of the research are to examine: (1) underwater activity budgets of humpback whales, including during non-daylight hours; (2) mother/calf/escort interactions, including sound production and vocal/behavioral responses to sounds by conspecifics; (3) habitat use; and (4) any behavioral and/or acoustic reactions to passing vessel traffic. Research activities would include photo-identification, behavioral observations, passive acoustic recording, and underwater photo/videography. Suction cup tags would be deployed on humpback whales, including calves. Minke whales would be approached for photo-identification anywhere within the main Hawaiian islands. Twelve other cetacean species may be incidentally harassed during research activities.

In compliance with the National Environmental Policy Act of 1969 (42 U.S.C. 4321 et seq.), an environmental assessment (EA) will be prepared to examine whether significant environmental impacts could result from issuance of the proposed scientific research permits and permit amendment.

Concurrent with the publication of this notice in the Federal Register, NMFS is forwarding copies of these applications to the Marine Mammal Commission and its Committee of Scientific Advisors.

Documents may be reviewed in the following locations:

Permits, Conservation and Education Division, Office of Protected Resources, NMFS, 1315 East-West Highway, Room 13705, Silver Spring, MD 20910; phone (301)713-2289; fax (301)713-0376;

Northwest Region, NMFS, 7600 Sand Point Way NE, BIN C15700, Bldg. 1, Seattle, WA 98115-0700; phone (206)526-6150; fax (206)526-6426;

Alaska Region, NMFS, P.O. Box 21668, Juneau, AK 99802-1668; phone (907)586-7221; fax (907)586-7249;

Southwest Region, NMFS, 501 West Ocean Blvd., Suite 4200, Long Beach, CA 90802-4213; phone (562)980-4001; fax (562)980-4018;

Pacific Islands Region, NMFS, 1601 Kapiolani Blvd., Rm 1110, Honolulu, HI 96814-4700; phone (808)944-2200; fax (808)973-2941;

Northeast Region, NMFS, 55 Great Republic Drive, Gloucester, MA 01930; phone (978)281-9300; fax (978)281-9333; and

Southeast Region, NMFS, 263 13th Avenue South, Saint Petersburg, Florida 33701; phone (727)824-5312; fax (727)824-5309.

Dated: November 5, 2009.
P. Michael Payne,
Chief, Permits, Conservation and Education Division, Office of Protected Resources, National Marine Fisheries Service.

[FR Doc. E9-27185 Filed 11-10-09; 8:45 am]

BILLING CODE 3510-22-S